DEPARTMENT OF HEALTH AND HUMAN SERVICES

Health Resources and Services Administration

Area Health Education Centers (AHEC) Program: Request for Single-Case Deviation

AGENCY: Health Resources and Services Administration (HRSA), HHS.

ACTION: Notice of Exception from Competition Requirements to Extend Duration of Grant for Remaining Project Period.

SUMMARY: The Health Resources and Services Administration (HRSA)'s Bureau of Health Workforce is issuing a single-case deviation from competition requirements for the Virginia Health Workforce Development Authority (VHWDA) Area Health Education Center (AHEC) Point of Service Maintenance and Enhancement (POSME) Award (Grant #U77HP26289) to extend the duration of the grant, through August 31, 2017.

SUPPLEMENTARY INFORMATION: Intended Recipient of the Award: Virginia Health Workforce Development Authority (VHWDA).

Amount of Funding Requested through Remaining 3-Year Project Period: $2,640,543. The estimated award for fiscal year 2014 is approximately $800,000.

Authority: Section 751 of the Public Health Service Act (42 U.S.C. 294a), as amended by Section 5403 of the Patient Protection and Affordable Care Act, Public Law 111-148.

CFDA Number: 93.107.

Remaining Project Period: September 1, 2014, through August 31, 2017.

Justification: The VHWDA is uniquely qualified to carry out the programmatic activities as described in the approved AHEC work plan for Virginia.

The mission of the VHWDA, as defined in the Code of Virginia, is “to facilitate the development of a statewide health professions pipeline that identifies, educates, recruits, and retains a diverse, appropriately geographically distributed and culturally competent quality workforce.¹ The mission of the Authority is accomplished by: (i) Providing the statewide infrastructure required for health workforce needs assessment and planning that maintains engagement by health professions training programs in decision making and program implementation; (ii) serving as the advisory board and setting priorities for the Virginia Area Health Education Centers Program . . .” The VHWDA's authorizing legislation also includes specific language allowing it to serve as a consortium of medical schools in order to meet the AHEC Program eligibility requirement as outlined in Section 751(b) of the Public Health Service Act.²

¹ VA. CODE ANN. § 32.1-122.7:2 (2010).

² 42 U.S.C. 294a(b).

There will be no significant change in the scope or objectives of the originally approved project. The same geographic area and population will be served as stated in the original grant. This project timeline is consistent with all other AHEC Program awardees. A full competitive application process for the remaining project period for only one applicant would be a waste of very limited federal resources, and an inefficient and cumbersome process. Additionally, competing a grant to serve the state of Virginia would interrupt and jeopardize the Virginia AHEC Program's approved work plan that has been in progress for almost 2 years. Disrupting this plan would affect the currently established partnerships with medical schools and community partners, which could impact the ability to place students in medically underserved communities, offer health careers enrichment programs, and carryout ongoing data collection and reporting activities.

FOR FURTHER INFORMATION CONTACT: Jamie Weng, MPH, Project Officer, AHEC Branch, Health Resources and Services Administration, Division of Public Health and Interdisciplinary Education, 5600 Fishers Lane, Room 9C-05, Rockville, Maryland 20857, phone: (301) 443-0186, or email: jweng@hrsa.gov.

Dated: July 29, 2014.
Mary K. Wakefield,
Administrator.

[FR Doc. 2014-18549 Filed 8-5-14; 8:45 am]

BILLING CODE 4165-15-P